DEPARTMENT OF AGRICULTURE

5 CFR Chapter LXXIII

RIN 3209-AA15

Supplemental Standards of Ethical Conduct for Employees of the Department of Agriculture

Correction

In rule document 00-7275 beginning on page 15825 in the issue of Friday, March 24, 2000, make the following correction:

§8301.103 [Corrected]

On page 15830, i § 8301.103(d)(2), in the first column, in the third line “(l)(1)” should read “(d)(1)”.

[FR Doc. C0-7275 Filed 4-19-00; 8:45 am]

BILLING CODE 1505-01-D

SECURITIES AND EXCHANGE COMMISSION

[Release No. 34-42516 / March 10, 2000, File No. 4-430]

Order Extending the Deadline for Compliance with Portions of the Commission's January 28, 2000, Order Directing the Exchanges and the National Association of Securities Dealers, Inc. to Submit a Decimalization Implementation Plan Pursuant to Section 11A(a)(3)(B) of the Securities Exchange Act of 1934

Correction

In notice document 00-6608, appearing on page 14637, in the issue of Friday, March 17, 2000, make the following correction:

On page 14637, in the second column, the docket number is corrected to read as set forth above.

[FR Doc. C0- 6608 Filed 4-19-00; 8:45 am]

BILLING CODE 1505-01-D